DEPARTMENT OF THE TREASURY

Submission for OMB Review; Comment Request

September 10, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 19, 2001 to be assured of consideration.

Internal Revenue Service (IRS)

OMB Number: 1545-1623.

Regulation Project Number: REG-246256-96 NPRM and Temporary.

Type of Review: Extension.

Title: Excise Taxes on Excess Benefit Transactions.

Description: The rule affects organizations described in Internal Revenue Code sections 501(c)(3) and (4) (applicable tax-exempt organizations). The collection of information entails obtaining and relying on appropriate comparability data and documenting the basis of an organization's determination that compensation is reasonable, or a property transfer (or transfer of the right to use property) is at fair market value. These actions comprise two of the requirements specified in the legislative history for obtaining the rebuttable presumption of reasonableness. Once an applicable tax-exempt organization satisfies the requirements of the presumption, section 4958 excise taxes can only be imposed if the IRS develops sufficient contrary evidence to rebut the probative value of the evidence put forth by the parties to the transaction.

Respondents: Not-for-profit institutions.

Estimated Number of Recordkeepers: 150,427.

Estimated Burden Hours Per Recordkeeper: 6 hours, 3 minutes.

Estimated Total Recordkeeping Burden: 910,083 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 01-23276 Filed 9-18-01; 8:45 am]

BILLING CODE 4830-01-P